DEPARTMENT OF TRANSPORTATION

Connected Vehicle Planning and Policy Stakeholder Meeting; Notice of Public Meeting

AGENCY: ITS Joint Program Office, Research and Innovative Technology Administration, U.S. Department of Transportation.

ACTION: Notice.

The U.S. Department of Transportation (USDOT) Intelligent Transportation System Joint Program Office (ITS JPO), in conjunction with the Federal Highway Administration (FHWA) and Federal Transit Administration (FTA), will conduct a free public meeting focused on soliciting input from the planning community and related national associations on policy and legal aspects of Connected Vehicle implementation. The meeting will include an overview of the Connected Vehicle technologies from the planning and policy perspective and the opportunity for participants to identify questions and concerns regarding the implementation of these technologies.

The meeting will be held on Thursday, September 12, 2013, from 9:00 a.m. to 12:30 p.m. at the USDOT, 1200 New Jersey Avenue SE., Washington, DC 20590, across the street from the Navy Yard Metro Station.

Advanced registration is required. Please RSVP no later than Wednesday, September 4, 2013 with your name and a business email address to Elizabeth Machek of the Research and Innovative Technology Administration at Elizabeth.machek@dot.gov. Please note if you are not a U.S. citizen, additional information will be required in compliance with USDOT security procedures. Detailed meeting location and materials will be provided to registered attendees.

For more information about Connected Vehicles, visit http://www.its.dot.gov/.

Issued in Washington, DC, on the 24th day of July 2013.
John Augustine,
Managing Director, ITS Joint Program Office.

[FR Doc. 2013-18232 Filed 7-29-13; 8:45 am]

BILLING CODE 4910-HY-P